DEPARTMENT OF HEALTH AND HUMAN SERVICES

Food and Drug Administration

21 CFR Part 573

[Docket No. 98F-0196]

Food Additives Permitted in Feed and Drinking Water of Animals; Selenium Yeast; Correction

AGENCY: Food and Drug Administration, HHS.

ACTION: Final rule; correction.

SUMMARY: The Food and Drug Administration (FDA) is correcting a final rule that published in the Federal Register of June 6, 2000 (65 FR 35823). The document amended FDA's food additive regulations to reflect approval of a petition (FAP 2238) filed by Alltech Biotechnology Center. The petition proposed to amend the food additive regulations to provide for the safe use of selenium yeast as a source of selenium in animal feeds intended for use in chickens. The document was published with an inadvertent error. This document corrects that error.

This rule does not meet the definition of “rule” in 5 U.S.C. 804(3)(A) because it is a rule of “particular applicability.” Therefore, it is not subject to the congressional review requirements in 5 U.S.C. 801-808.

DATES: Effective June 6, 2000.

FOR FURTHER INFORMATION CONTACT: Nelson S. Chou, Center for Veterinary Medicine (HFV-228), Food and Drug Administration, 7500 Standish Pl., Rockville, MD 20855, 301-827-0161.

SUPPLEMENTARY INFORMATION: In FR Doc. 00-14214, appearing on page 35823 in the Federal Register of Tuesday, June 6, 2000, the following correction is made:

§ 573.920 [Corrected]

On page 35824, in § 573.920 Selenium, in the second column, in paragraph (h) the last sentence is corrected to read “Usage of this additive must conform to the requirements of paragraphs (d)(1), (e), and (f) of this section.”

Dated: August 18, 2000.
Stephen F. Sundlof,
Director, Center for Veterinary Medicine.

[FR Doc. 00-22399 Filed 8-31-00; 8:45 am]

BILLING CODE 4160-01-F